DEPARTMENT OF VETERANS AFFAIRS

[OMB Control No. 2900-0793]

Agency Information Collection Activity Under OMB Review: VA Health Professional Scholarship and Visual Impairment and Orientation and Mobility Professional Scholarship Programs (HPSP and VIOMPSP)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before September 18, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0793” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-0793” in any correspondence.

SUPPLEMENTARY INFORMATION:

Authority: 44 U.S.C. 3501-21.

Title: VA Health Professional Scholarship and Visual Impairment and Orientation and Mobility Professional Scholarship Programs (HPSP and VIOMPSP).

1. Academic Verification, VA Form 10-0491.

2. Addendum to Application, VA Form 10-0491a.

3. Annual VA Employment Deferment Verification, VA Form 10-0491c.

4. Education Program Completion Notice—Service Obligation Placement, VA Form 10-0491d.

5. Evaluation Recommendation Form, VA Form 10-0491e.

6. HPSP Agreement, VA Form 10-0491f.

7. HPSP/VIOMPSP Application, VA Form 10-0491g.

8. Notice of Approaching Graduation, VA Form 10-0491h.

9. Notice of Change and/or Annual Academic Status Report, VA Form 10-0491i.

10. Request for Deferment for Advanced Education, VA Form 10-0491j.

11. VA Scholarship Offer Response, VA Form 10-0491k.

12. VIOMPSP Agreement, VA Form 10-0491l.

13. Mobility Agreement, VA Form 10-0491m.

14. HPSP VHVMAESP Agreement, VA Form 10-0491n.

OMB Control Number: 2900-0793.

Type of Review: Revision of a currently approved collection.

Abstract: This is a revision of a currently approved collection, due to legislation that necessitates adding two forms and amending existing forms. The collection of information is essential to implement the Department of Veterans Affairs (VA) Visual Impairment and Orientation and Mobility Professionals Scholarship Program (VIOMPSP) and the VA Health Professional Scholarship Program (HPSP) which were authorized under Public Law 111-163 on May 5, 2010 and extended through December 31, 2033 by Section 301 of Public Law 115-182, The VA Mission Act of 2018. The passage of this legislation allows VA to provide services to the public by awarding scholarships to non-VA employees who will be required to become VA employees in the professions for which they were educated under these programs. Section 304 of The Mission Act of 2018 authorized the creation of the Veterans Healing Veterans Medical Access and Education Scholarship Program (VHVMAESP). These programs will help address VA health care workforce needs.

An agency may not conduct or sponsor, and a person is not required to respond to, a collection of information unless it displays a currently valid OMB control number. The Federal Register Notice with a 60-day comment period soliciting comments on this collection of information was published at 84 FR 26936 on June 10, 2019, pages 26936 through 26938.

Affected Public: Individuals and households.

Estimated Annual Burden
VA forms | Number of respondents | × Number of responses | Equals | × Number of minutes | Equals (minutes) | ÷ by 60 = | Number of hours
Visual Impairment and Orientation and Mobility Professionals Scholarship Program (VIOMPSP)
Applicants
10-0491g—Application | 100 | 1 | 100 | 60 | 6,000 |  | 100
10-0491—Academic Verification | 100 | 1 | 100 | 60 | 6,000 |  | 100
10-0491e—Evaluation & Recommendation | 100 | 2 | 200 | 50 | 5,000 |  | 83.3
10-0491a—Addendum to Application | * 30 | 1 | 30 | 10 | 300 |  | 5
Total |  |  |  |  |  |  | 288.3
Applicants Selected To Receive a Scholarship
10-0491l—Agreement for the VIOMPSP | 10 | 1 | 10 | 15 | 150 |  | 2.5
10-0491m—VA Scholarship Mobility Agreement | 10 | 1 | 10 | 10 | 100 |  | 1.7
10-0491k—VA Scholarship Offer Response | 10 | 1 | 10 | 10 | 100 |  | 1.7
10-0491i—Notice of Change and/or Annual Academic Status Report | 10 | 1 | 10 | 20 | 200 |  | 3.3
10-0491h—Notice of Approaching Graduation | 10 | 1 | 10 | 10 | 100 |  | 1.7
10-0491d—Education Program Completion Notice/Service Obligation Placement | 10 | 1 | 10 | 20 | 200 |  | 3.3
10-0491j—Request for Deferment for Advanced Education | 2 | 1 | 2 | 10 | 20 |  | .3
10-0491c—Annual VA Employment/Deferment Verification | 10 | 1 | 10 | 10 | 100 |  | 1.7
Total |  |  |  |  |  |  | 16.2
Grand Total for VIOMPSP |  |  |  |  |  |  | 304.5
Health Professional Scholarship Program (HPSP)
Applicants
10-0491g—Application | 1,700 | 1 | 1,700 | 60 | 102,000 |  | 1,700
10-0491—Academic Verification | 1,700 | 1 | 1,700 | 60 | 102,000 |  | 1,700
10-0491e—Evaluation & Recommendation | 1,700 | 2 | 3,400 | 50 | 170,000 |  | 2,833.3
10-0491a—Addendum to Application | * 510 | 1 | 510 | 10 | 5,100 |  | 85
Total |  |  |  |  |  |  | 6,318.3
Applicants Selected To Receive a Scholarship
10-0491f—Agreement for the HPSP | 160 | 1 | 160 | 15 | 2,400 |  | 40
10-0491n—Agreement for the VHVMAESP | 20 | 1 | 20 | 15 | 300 |  | 5
10-0491m—Mobility Agreement | 160 | 1 | 160 | 10 | 1,600 |  | 26.7
10-0491k—VA Scholarship Offer Response | 160 | 1 | 160 | 10 | 1,600 |  | 26.7
10-0491i—Notice of Change and/or Annual Academic Status Report | 480 | 1 | 480 | 20 | 9,600 |  | 160
10-0491h—Notice of Approaching Graduation | 160 | 1 | 160 | 10 | 1,600 |  | 26.7
10-0491d—Education Program Completion Notice/Service Obligation Placement | 160 | 1 | 160 | 20 | 3,200 |  | 53.3
10-0491j—Request for Deferment for Advanced Education | * 48 | 1 | 48 | 10 | 480 |  | 8
10-0491c—Annual VA Employment/Deferment Verification | 160 | 1 | 160 | 10 | 1,600 |  | 26.7
Total |  |  |  |  |  |  | 373.1
Grand Total for HPSP |  |  |  |  |  |  | 6,691.4
Grand Total for Both VIOMPSP and HPSP (6,691.4 + 304.5 = 6,995.9) | ~ 6,996
* (30%).

Frequency of Response: Annually.

Estimated Number of Respondents: 1,800.

By direction of the Secretary.
Danny S. Green,
Interim VA Clearance Officer, Office of Quality, Performance and Risk (OQPR), Department of Veterans Affairs.

[FR Doc. 2019-17685 Filed 8-16-19; 8:45 am]

BILLING CODE 8320-01-P